DEPARTMENT OF DEFENSE

Department of the Army

Notice of Request for Information on Technologies To Support Operations in the Information Environment

AGENCY: Department of the Army, DoD.

ACTION: Request for information

SUMMARY: The Department of the Army hereby gives notice of its intent to conduct an Information Event (meeting) on technologies to support operations in the information environment. This event will identify existing technologies to address requirements identified in the Joint Concept for Operations in the Information Environment (JCOIE). The intended effect of the Information Event is to identify potential performers and technology capabilities for future contract actions.

DATES: The event will take place from June 25-29, 2018 at 8283 Greensboro Drive, McLean, VA 22102.

ADDRESSES: Requests to attend the event should be sent to Dr. Elizabeth K. Bowman, Army Research Lab, Elizabeth.k.bowman.civ@mail.mil not later than June 15, 2018 by email or in writing: U.S. Army Research Laboratory Computational and Information Science Directorate, RDRL-CII/Elizabeth Bowman, Building 321 Room 134, Aberdeen Proving Ground, MD 21005-5425.

FOR FURTHER INFORMATION CONTACT: Elizabeth Bowman, (410) 278-5924, E-Mail: Elizabeth.k.bowman.civ@mail.mil

SUPPLEMENTARY INFORMATION: Interested offerors of information may attend the event in person or may submit a 100-word response describing how a technology meets one or more of the tasks identified in this document. Written responses should be sent to Dr. Bowman not later than June 29, 2018 for inclusion in a summary technology report.

The Joint Information Operations Warfare Center (JIOWC) is establishing requirements to support the emerging domain of Operations in the Information Environment. A Capability Based Assessment (CBA) has identified four Concept Requirement Capabilities (CRC's), identified below, each consisting of sub-ordinate task requirements. The CRCs and the supporting sub-tasks are identified below:

Required Capabilities

A. Required Capabilities to Characterize and Assess the Informational, Physical, and Human Aspects of the Security Environment. The Joint Force requires the ability to:

A.1 determine impact of relevant informational, physical, and human aspects of the security environment on Joint Force objectives.

A.2 understand the perceptions and attitudes that drive behaviors that affect JFC's objectives.

A.3 understand how relevant actors are successful in adapting their use of information technology.

A.4 share contextual understanding of the security environment.

A.5 characterize, assess, synthesize, and understand trends of relevant actor activities and their impacts on the IE throughout cooperation, competition, and conflict.

A.6 analyze and estimate relevant change within the IE.

A.7 identify, access, and manage IE subject matter expertise.

A.8 understand internal and other relevant actor bias within the IE.

B. Required Capabilities to Formulate Options that Integrate Physical and Informational Power. The Joint Force requires the ability to:

B.1 identify, optimize and assess the effectiveness of the full range of options that integrate physical and informational power to produce desired psychological effects.

B.2 employ required forces and capabilities from across the Joint Force to sustain or change perceptions and attitudes that drive desired behaviors of relevant actors.

B.3 assess relevant actors' capability and capacity to receive, understand, and respond to Joint Force physical and informational activities.

C. Required Capabilities to Execute and Modify Options. The Joint Force requires the ability to:

C.1 execute integrated physical and informational activities designed to achieve psychological effects.

C.2 assess and modify informational power with the same level of competency as physical power.

D. Required Capabilities to Institutionalize the Integration of Physical and Informational Power. The Joint Force requires the ability to:

D.1 change how its individuals, organizations, and units think about and treat information.

D.2 organize, train, equip, and maintain organizations that deliberately leverage the informational aspects of military activities.

D.3 integrate operations with interorganizational partners.

D.4 leverage physical and informational power at its discretion to achieve objectives.

The Joint Concept for Operations in the Information Environment provides a detailed review of the CRCs. This document is available upon request from Dr. Bowman.

The Army Research Lab (ARL) is conducting a technology state-of-the-art review in support of the JIOWC CBA to identify technology readiness levels (TRLs) of existing or emerging systems to support the four CRCs and each of the subordinate requirements. The Information Event will begin with a government overview of the importance and military relevance of OIE. This will be followed by a staff overview of the OIE CRCs and sub-tasks that will include discussion and question/answers from the audience. Four CRC subgroups will be formed and led by government advisors to explore the technology requirements in more detail. A technology demonstration opportunity will be offered during the last two hours of day one for attendees to provide technology exemplars. Days two and three (the number of days will be determined by the number of attendees interested in presenting) will consist of individual briefings by interested parties. Briefings will be organized by CRCs. Presentations should not exceed 10 minutes to be followed by 5 minutes of questions/answers.

As indicated previously, physical attendance is not required at the Information Event. If interested parties would like to promote their technology for any of the CRCs, they should send a written description of how the technology addresses one or more CRC or sub-task. Each description should not be greater than 100 words and should include the TRL for the system. The description should clearly identify the offerer name, contact information, and identify any operational user groups.

Brenda S. Bowen,
Army Federal Register Liaison Officer.

[FR Doc. 2018-11019 Filed 5-22-18; 8:45 am]

BILLING CODE 5001-03-P